DEPARTMENT OF HOMELAND SECURITY

[Docket No. DHS-2016-0030]

National Infrastructure Advisory Council

AGENCY: National Protection and Programs Directorate, DHS.

ACTION: Committee management; notice of an open Federal Advisory Committee meeting.

SUMMARY: The National Infrastructure Advisory Council will meet Friday, June 24, 2016 at the Los Angeles Enviromental Learning Center, 12000 Vista Del Mar, Los Angeles, CA 90293. This meeting will be open to the public.

DATES: The National Infrastructure Advisory Council will meet on June 24, 2016, 9:00 a.m.-1:00 p.m. PDT.

ADDRESSES: Los Angeles Enviromental Learning Center, 12000 Vista Del Mar, Los Angeles, CA 90293. For information on facilities or services for individuals with disabilities, or to request special assistance at the meeting, contact the person listed under FOR FURTHER INFORMATION CONTACT below as soon as possible.

Public comment, to be considered by the Council is highly encouraged. This is Item VI of the meeting agenda listed below. Written comments must be submitted no later than 12:00PM EDT on June 20, 2016, in order to be considered by the Council in its meeting. Comments must be identified by “DHS-2016-0030,” and may be submitted by any one of the following methods:

• Federal eRulemaking Portal: www.regulations.gov. Follow “submitting written comments” instructions.

• Email: NIAC@hq.dhs.gov. Include the docket number in the subject line of the message.

• Fax: (703) 235-9707.

• Mail: Ginger Norris, National Protection and Programs Directorate, Department of Homeland Security, 245 Murray Lane SW., Mail Stop 0612, Washington, DC 20598-0607.

Instructions: All written submissions must include the words “Department of Homeland Security” and the docket number for this action. Written comments will be posted without alteration at www.regulations.gov, including any personal information provided.

Docket: For access to the docket and background documents, go to www.regulations.gov. Search “NIAC” for a list all relevant documents for your review.

Members of the public may provide oral comments on agenda items and previous National Infrastructure Advisory Council studies. All previous studies can be located at www.dhs.gov/NIAC. Written Comments received after 8:30 a.m. PDT on June 24, 2016, will still be accepted and reviewed by the members, but not by the time of the meeting. In-person comments are limited to three minutes per speaker. Members of the public making comments must register with NIAC Secretariat at the meeting location.

FOR FURTHER INFORMATION CONTACT: Ginger Norris, National Infrastructure Advisory Council, Alternate Designated Federal Officer, Department of Homeland Security, (703) 235-2888.

SUPPLEMENTARY INFORMATION: Notice of this meeting is given under the Federal Advisory Committee Act, 5 U.S.C. Appendix. The National Infrastructure Advisory Council shall provide the President, through the Secretary of Homeland Security, with advice on the security and resilience of the Nation's critical infrastructure sectors. At this meeting, the council will receive a final presentation on Water Resilience from its working group members and deliberate and vote upon the Water Resilience Recommendations as appropriate. All presentations will be posted at least three working days prior to the meeting on the Council's public Web page— www.dhs.gov/NIAC.

Public Meeting Agenda

I. Opening of Meeting

II. Roll Call of Members

III. Opening Remarks and Introductions

IV. Approval of March 2016 Meeting Minutes

V. Final Working Group Presentation and Recommendations on Water Resilience Study

VI. Public Comment

VII. Discussion and Deliberation on Recommendations for the Water Resilience Report

VIII. Discussion of New NIAC Business

IX. Closing Remarks

X. Adjournment

Dated: May 23, 2016.
Ginger Norris,
Alternate Designated Federal Officer, for the National Infrastructure Advisory Council.

[FR Doc. 2016-12524 Filed 5-26-16; 8:45 am]

BILLING CODE 9110-9P-P